DEPARTMENT OF COMMERCE

Patent and Trademark Office

Agency Information Collection Activities; Submission to the Office of Management and Budget (OMB) for Review and Approval; Comment Request; International Design Applications (Hague Agreement)

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on September 29, 2020 during a 60-day comment period. This notice allows for an additional 30 days for public comments.

Agency: United States Patent and Trademark Office, Department of Commerce.

Title: International Design Applications (Hague Agreement).

OMB Control Number: 0651-0075.

Form Number(s): WIPO DM = WIPO Dessins et Modeles (design representations); PTOL = Patent Trademark Office Legal

• PTO-1595: (Assignment Cover Sheet)

• PTOL-85 Part B (Hague): (Issue Fee to USPTO for an International Design Application)

• WIPO DM/1 (Application for International Registration—entitled Hague Agreement Concerning The International Registration of Industrial Design)

• WIPO DM/1/I Annex: (Declaration on Inventorship for Purposes of Designation of the United States)

• WIPO DM/1/I Annex: (Substitute Statement in Lieu of a Declaration of Inventorship for the Purpose of Designating the United States)

• WIPO DM/1/III Annex: (Information On Eligibility For Protection)

• WIPO DM/1/IV Annex: (Reduction of United States Individual Designation Fee)

• WIPO DM/1/V Annex: (Supporting Document(s) Concerning Priority Claim To The Korean Intellectual Property Office (KIPO))

Type of Request: Extension and revision of a currently approved information collection.

Number of Respondents: 1,406 respondents per year.

Average Hour per Response: The USPTO estimates that it will take the public between 15 minutes (0.25 hours) and 6 hours to complete a response, depending upon the complexity of the situation. This includes the time to gather the necessary information, prepare the appropriate documents, and submit the completed response to the USPTO.

Estimated Total Annual Respondent Burden Hours: 2,301 hours.

Estimated Total Annual Non-Hour Cost Burden: $3,389,280.

Needs and Uses: The Patent Law Treaties Implementation Act of 2012 (PLTIA) amends the patent laws to implement the provisions of the Geneva Act of the Hague Agreement Concerning International Registration of Industrial Designs (hereinafter “Hague Agreement”) in title 1, and the Patent Law Treaty (PLT) in title 2. The Hague Agreement is an international agreement that enables an applicant to file a single international design application which may have the effect of an application for protection for the design(s) in countries and/or intergovernmental organizations that are Parties to the Hague Agreement (the “Contracting Parties”) designated in the applications. The United States is a Contracting Party to the Hague Agreement, which took effect with respect to the United States on May 13, 2015. The Hague Agreeement is administered by the International Bureau (IB) of World Intellectual Property Organization (WIPO) located in Geneva, Switzerland.

This information collection covers information filed by U.S. applicants for the prosecution of international design applications “indirectly” through the United States Patent and Trademark Office (USPTO), which will forward the applications to the IB or “directly” with the IB. The IB ascertains whether the international design application complies with formal requirements, registers the international design in the International Register, and publishes the international registration in the International Designs Bulletin. The international registration contains all of the data of the international application, any reproduction of the industrial design, date of the international registration, number of the international registration, and relevant class of the International Classification.

The IB will provide a copy of the publication of the international registration to each Contracting Party designated by the applicant. A designated Contracting Party may perform a substantive examination of the design application. The USPTO will perform a substantive examination for patentability of the international design application, as in the case of regular U.S. design applications. The industrial design or designs will be eligible for protection in all the Contracting Parties designated by applicants.

In addition, this information collection covers the various fees related to the processing of International design applications, such as the: (1) basic fee; (2) standard designation fee(s); (3) individual designation fee(s); and (4) publication fee. Also, an additional fee is required where the applications contain a description that exceeds 100 words, and a transmittal fee is required for international design applications filed through an office of indirect filing. The fees required by the IB may be paid either directly to the IB or through the USPTO as an office of indirect filing in the amounts specified on the WIPO website. If applicants want to pay the required fees through USPTO as an office of indirect filing, the fees must be paid no later than the date of payment of the transmittal fee. The fees will then be forwarded to the IB.

The Hague Agreement enables applicants from Contracting Parties to obtain protection of their designs with minimal formalities and expenses in multiple countries and/or regions. The Hague Agreement is administered by the IB, which simplifies the management of an industrial design registration. For example, through the IB, applicants can record changes of their representatives or changes in ownership, and renew their international registration.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0075.

Further information can be obtained by:

• Email: InformationCollection@uspto.gov. Include “0651-0075 information request” in the subject line of the message.

• Mail: Kimberly Hardy, Office of the Chief Administrative Officer, United States Patent and Trademark Office, P.O. Box 1450, Alexandria, VA 22313- 1450.

Kimberly Hardy,
Information Collections Officer, Office of the Chief Administrative Officer, United States Patent and Trademark Office.

[FR Doc. 2020-26350 Filed 11-27-20; 8:45 am]

BILLING CODE 3510-16-P